DEPARTMENT OF LABOR

Employment and Training Administration

[TA-W-56,623]

Sussex Zinc Plating, Inc., Sussex, WI; Notice of Termination of Investigation

Pursuant to Section 221 of the Trade Act of 1974, an investigation was initiated on February 23, 2005 in response to a petition filed by a company official on behalf of workers at Sussex Zinc Plating, Inc., Sussex, Wisconsin.

The petition regarding the investigation has been deemed invalid. In order to establish a valid worker group, there must be at least three full-time workers employed at some point during the period under investigation. Workers of the group subject to this investigation did not meet the threshold or employment.

Consequently, the investigation has been terminated.

Signed in Washington, DC, this 4th day of March 2005.
Elliott S. Kushner,
Certifying Officer, Division of Trade Adjustment Assistance.

[FR Doc. E5-1361 Filed 3-25-05; 8:45 am]

BILLING CODE 4510-30-P